DEPARTMENT OF HEALTH AND HUMAN SERVICES

Centers for Medicare and Medicaid Services

[Document Identifier: CMS-10180]

Emergency Clearance: Public Information Collection Requirements Submitted to the Office of Management and Budget (OMB)

AGENCY: Center for Medicare and Medicaid Services.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320. This is necessary to ensure compliance with an initiative of the Administration. We cannot reasonably comply with the normal clearance procedures because of an unanticipated event. Due to the CMS mandatory deadlines set forth by OMB for Agencies to have full disclosure financial statements prepared and independently audited, the CMS requests an emergency clearance process based on 5 CFR 1320.13(a)(2)(ii).

The approval of this information collection process is essential in order to comply with Section 3515 of the Chief Financial Officers (CFO) Act that requires government agencies to produce auditable financial statements in accordance with Office of Management and Budget (OMB) guidelines on form and content. The Government Management and Reform Act of 1994 requires all offices, bureaus and associated activities of the 24 CFO Act agencies to be covered in an agency-wide, audited financial statement. CMS fulfills its mission through its contractors and the States. These entities are the primary source of information for the financial statements. Collection of State Children's Health Insurance Program (SCHIP) data and the calculation of the SCHIP Incurred But Not Reported (IBNR) estimate are pertinent to CMS’ financial audit. The CFO auditors have reported the lack of an estimate for SCHIP IBNR payables and receivables as a reportable condition in the FY 2005 audit of CMS’ financial statements.

1. Type of Information Collection Request: New collection; Title of Information Collection: State Children's Health Insurance Program (SCHIP) Report on Payables and Receivables; Use: Collection of SCHIP data and the calculation of the SCHIP Incurred But Not Reported (IBNR) estimate are pertinent to CMS’ financial audit. The CFO auditors have reported the lack of an estimate for SCHIP IBNR payables and receivables as a reportable condition in the FY 2005 audit of CMS's financial statements. It is essential that CMS collect the necessary data from State agencies in FY 2006, so that CMS continues to receive an unqualified audit opinion on its financial statements. Program expenditures for the SCHIP have increased since its inception; as such, SCHIP receivables and payables may materially impact the financial statements. The SCHIP Report on Payables and Receivables will provide the information needed to calculate the SCHIP IBNR.; Form Number: CMS-10180 (OMB#: 0938-NEW); Frequency: Reporting—Annually; Affected Public: State, Local, or Tribal governments; Number of Respondents: 56; Total Annual Responses: 56; Total Annual Hours: 336.

CMS is requesting OMB review and approval of this collection by March 20, 2006, with a 180-day approval period. Written comments and recommendation will be considered from the public if received by the individuals designated below by March 6, 2006.

To obtain copies of the supporting statement and any related forms for the proposed paperwork collections referenced above, access CMS' Web site address at http://www.cms.hhs.gov/PaperworkReductionActof1995 or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by January 31, 2005:

Centers for Medicare and Medicaid Services, Office of Strategic Operations and Regulatory Affairs, Room C4-26-05, 7500 Security Boulevard, Baltimore, MD 21244-1850, Attn: William N. Parham, III, and

OMB Human Resources and Housing Branch, Attention: Carolyn Lovett, New Executive Office Building, Room 10235, Washington, DC 20503.

Dated: January 25, 2006.
Michelle Shortt,
Director, Regulations Development Group, Office of Strategic Operations and Regulatory Affairs.

[FR Doc. 06-973 Filed 2-2-06; 8:45 am]

BILLING CODE 4120-01-P